ENVIRONMENTAL PROTECTION AGENCY

[EPA-HQ-OW-2015-0613; FRL-10843-01-OMS]

Agency Information Collection Activities; Submission to the Office of Management and Budget for Review and Approval; Comment Request; Implementation of Title I of the Marine Protection, Research, and Sanctuaries Act (Renewal)

AGENCY: Environmental Protection Agency (EPA).

ACTION: Notice.

SUMMARY: The Environmental Protection Agency (EPA) has submitted an information collection request (ICR), Implementation of Title I of the Marine Protection, Research, and Sanctuaries Act (EPA ICR Number 0824.08, OMB Control Number 2040-0008) to the Office of Management and Budget (OMB) for review and approval in accordance with the Paperwork Reduction Act. This is a proposed extension of the ICR, which is currently approved through March 31, 2023. Public comments were previously requested via the Federal Register on July 13, 2022 during a 60-day comment period. This notice allows for an additional 30 days for public comments.

DATES: Comments may be submitted on or before April 26, 2023.

ADDRESSES: Submit your comments, referencing Docket ID Number EPA-HQ-OW-2015-0613, to EPA online using www.regulations.gov (our preferred method), by email to OW-Docket@epa.gov, or by mail to EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute. Submit written comments and recommendations to OMB for the proposed information collection within 30 days of publication of this notice to www.reginfo.gov/public/do/PRAMain. Find this particular information collection by selecting “Currently under 30-day Review—Open for Public Comments” or by using the search function.

FOR FURTHER INFORMATION CONTACT: Chris Laabs, Oceans, Wetlands, and Communities Division, mail code 4504T, Office of Wetlands, Oceans, and Watersheds, mail code 4501T, Environmental Protection Agency, 1200 Pennsylvania Ave. NW, Washington, DC 20460; telephone number: 202-566-1223; email address: Laabs.Chris@epa.gov.

SUPPLEMENTARY INFORMATION: This is a proposed extension of the ICR, which is currently approved through March 31, 2023. An agency may not conduct or sponsor and a person is not required to respond to a collection of information unless it displays a currently valid OMB control number.

Public comments were previously requested via the Federal Register on July 13, 2022 during a 60-day comment period (87 FR 41716). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: With limited exceptions, ocean dumping—the transportation of any material for the purpose of dumping in ocean waters—is prohibited except in compliance with a permit issued under the Marine Protection, Research, and Sanctuaries Act (MPRSA). EPA is responsible for issuing ocean dumping permits for all materials except dredged material. The U.S. Army Corps of Engineers (USACE) is responsible for issuing ocean dumping permits for dredged material using EPA's environmental criteria. In the case of Federal navigation projects, USACE may implement the MPRSA directly in the Federal projects involving ocean disposal of dredged materials in lieu of the permit process. USACE relies on EPA's Ocean Dumping Criteria when evaluating permit requests for (and implementing Federal projects involving) the transportation of dredged material for the purpose of dumping it into ocean waters. MPRSA permits and federal projects involving the ocean dumping of dredged material are subject to EPA review and concurrence. EPA is also responsible for designating and managing ocean sites for the disposal of wastes and other materials and establishing Site Management and Monitoring Plans for ocean disposal sites. EPA collects, or sponsors the collection of, information for the purposes of permit issuance, reporting of emergency dumping to safeguard life at sea, and for compliance with permit requirements. EPA may issue emergency, research, special, and general permits. Examples of EPA permits include general permits for burial at sea, for transportation and disposal of vessels, and for ocean disposal of marine mammal carcasses.

EPA collects this information to ensure that ocean dumping is appropriately regulated and will not harm human health and the marine environment, based on applying the Ocean Dumping Criteria. The Ocean Dumping Criteria consider, among other things: the environmental impact of the dumping; the need for the dumping; the effect of the dumping on aesthetic, recreational, or economic values; land-based alternatives to ocean dumping; and the adverse effects of the dumping on other uses of the ocean. The Ocean Dumping Criteria are codified in 40 CFR parts 220 through 228. To meet U.S. reporting obligations under the London Convention, an international treaty on ocean dumping, EPA also reports some of this information in the annual United States Ocean Dumping Report.

EPA uses ocean dumping information to make decisions regarding whether to issue, deny, or impose conditions on ocean dumping permits issued by EPA, in order to ensure consistency with the Ocean Dumping Criteria. EPA uses monitoring and reporting data from permittees to assess compliance with ocean dumping permits, including associated monitoring activities.

Form numbers: None.

Respondents/affected entities: Any private person or entity, or State, local, or foreign governments.

Respondent's obligation to respond: Required to obtain or retain a benefit, specifically permit authorization and/or compliance with permits required under MPRSA sections 102 and 104, 33 U.S.C. 1402 & 1404, and implementing regulations at 40 CFR parts 220 through 229.

Estimated number of respondents: 2,490 respondents per year (total).

Frequency of response: Varies greatly depending on the respondent/entities needs to obtain or retain the benefits entailed in 40 CFR parts 220 through 229.

Total estimated burden: 3,369 hours (per year). Burden is defined at 5 CFR 1320.3(b).

Total estimated cost: $722,340 (per year), which includes $565,299 for capital or operation & maintenance costs.

Changes in the estimates: There is a decrease of 127 total estimated respondent hours in the total estimated respondent burden compared with the ICR currently approved by OMB. The decrease is related to a lower number of general permit submissions anticipated, consistent with the actual average number of submissions. The total average annual costs have increased from $344,066 to $722,340 due to an anticipated increase in research permit submissions from once every ten years to once every two years which may require additional supporting analysis.

Courtney Kerwin,
Director, Regulatory Support Division.

[FR Doc. 2023-06228 Filed 3-24-23; 8:45 am]

BILLING CODE 6560-50-P